DEPARTMENT OF TRANSPORTATION

Federal Aviation Administration

Forty-Fifth Meeting: RTCA Special Committee 206 Plenary Aeronautical Information and Meteorological Data Link Services

AGENCY: Federal Aviation Administration (FAA), U.S. Department of Transportation (DOT).

ACTION: FORTY-FIFTH MEETING RTCA Special Committee 206 Plenary Aeronautical Information and Meteorological Data Link Services.

SUMMARY: The FAA is issuing this notice to advise the public of a meeting of FORTY-FIFTH MEETING RTCA Special Committee 206 Plenary Aeronautical Information and Meteorological Data Link Services.

DATES: The meeting will be held September 12-16, 2016, 8:30 a.m.-5:00 p.m. Monday-Thursday, 8:30 a.m.-11:00 a.m. Friday.

ADDRESSES: The meeting will be held at: National Weather Service Training Center, 7220 NW 101st Terrace, Kansas City, Missouri 64153.

FOR FURTHER INFORMATION CONTACT: Karan Hofmann at khofmann@rtca.org or (202) 330-0680, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the FORTY-FIFTH MEETING RTCA Special Committee 206 Plenary Aeronautical Information and Meteorological Data Link Services. The agenda will include the following:

Monday, September 12, 2016

08:30 a.m. Opening Plenary

1. Opening remarks: DFO, RTCA, Chairman, and Host

2. Attendees' introductions

3. Review and approval of meeting agenda

4. Approval of previous meeting minutes (Ottawa)

5. Action item review

6. Sub-Groups reports

a. SG1/6: MASPS FRAC Resolution

b. SG4: EDR MOPS

c. SG5: FIS-B MOPS

d. SG7: Winds Guidance

7. TOR Discussion

1:00 p.m. Sub-Groups meetings

Tuesday, September 13, 2016

08:30 a.m. Sub-Groups meetings

Wednesday, September 14, 2016

8:30 a.m. Sub-Groups meetings

Thursday, September 15, 2016

08:30 a.m. Sub-Groups meetings

Friday, September 16, 2016

08:30 a.m. Closing Plenary

1. Sub-Groups reports

2. Decision to approve SG6 MASPS for PMC review

3. Future meetings plans and dates

4. Industry coordination

a. WG-76 Briefing

5. SC-206 action item review

6. Other business

11:00 a.m. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on August 9, 2016.
Mohannad Dawoud,
Management & Program Analyst, Partnership Contracts Branch, ANG-A17, NextGen, Procurement Services Division, Federal Aviation Administration.

[FR Doc. 2016-19411 Filed 8-12-16; 8:45 am]

BILLING CODE 4910-13-P